DEPARTMENT OF COMMERCE

National Oceanic and Atmospheric Administration

[I.D. 092500E]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Law Enforcement Advisory Panel (LEAP).

DATES: This meeting will be held on October 18, 2000, from 8:30 a.m. to 12 noon.

ADDRESSES: This meeting will be held at the Adam’s Mark Clearwater Beach Resort, 430 South Gulfview Boulevard, Clearwater, FL 33767; telephone: 727-443-5714.

Council address: Gulf of Mexico Fishery Management Council, 3018 U.S. Highway 301 North, Suite 1000, Tampa, FL 33619.

FOR FURTHER INFORMATION CONTACT: Richard Leard, Senior Fishery Biologist, Gulf of Mexico Fishery Management Council; telephone: 813-228-2815.

SUPPLEMENTARY INFORMATION: The LEAP will convene to discuss possible actions to prohibit the sale of recreationally caught fish and to review current state and Federal marine enforcement resources, capabilities, and needs. The LEAP and the Gulf States Marine Fisheries Commission’s (GSMFC) Law Enforcement Committee (LEC), which are made up of mostly the same individuals, have been developing a 5-year “Gulf of Mexico Cooperative Law Enforcement Strategic Plan—2001-06.” This document contains a set of goals and objectives that the LEAP/LEC would like to accomplish during this 5-year period. Once finalized, the 5-year strategic plan will be submitted to the GSMFC and the Council. The LEAP will also review Draft Amendment 7 to the Stone Crab Fishery Management Plan (FMP) that includes options for a trap certificate program in state and Federal waters, and Draft Amendment 11 to the Shrimp FMP that includes options for vessel permits, vessel registrations, operator permits, and a prohibition on the use of trap gear in the royal red shrimp fishery. The status of the Council’s other FMPs, amendments, and regulatory actions will also be reviewed.

The LEAP consists of principal law enforcement officers in each of the Gulf states as well as NMFS, the U.S. Coast Guard, and the NOAA General Counsel. A copy of the agenda and related materials can be obtained by calling the Council office at 813-228-2815.

Although other non-emergency issues not on the agendas may come before the LEAP for discussion, in accordance with the Magnuson-Stevens Fishery Conservation and Management Act, those issues may not be the subject of formal action during this meetings. Actions of the LEAP will be restricted to those issues specifically identified in the agenda and any issues arising after publication of this notice that require emergency action under section 305(c) of the Magnuson-Stevens Act, provided the public has been notified of the Council's intent to take action to address the emergency.

Special Accommodations

This meeting is physically accessible to people with disabilities. Requests for sign language interpretation or other auxiliary aids should be directed to Anne Alford at the Council (see ADDRESSES) by October 11, 2000.

Dated: September 25, 2000.
Richard W. Surdi,
Acting Director, Office of Sustainable Fisheries, National Marine Fisheries Service.

[FR Doc. 00-25039 Filed 9-28-00; 8:45 am]

BILLING CODE 3510-22-P